DEPARTMENT OF THE INTERIOR

National Park Service

[NPS-WASO-NAGPRA-20611; PPWOCRADN0-PCU00RP14.R50000]

Notice of Inventory Completion: Museum of Ojibwa Culture and Marquette Mission Park, City of St. Ignace, St. Ignace, MI

AGENCY: National Park Service, Interior.

ACTION: Notice.

SUMMARY: The Museum of Ojibwa Culture and Marquette Mission Park, City of St. Ignace has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the Museum of Ojibwa Culture and Marquette Mission Park, City of St. Ignace. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the Museum of Ojibwa Culture and Marquette Mission Park, City of St. Ignace at the address in this notice by May 5, 2016.

ADDRESSES: Shirley Sorrels, Director, Museum of Ojibwa Culture and Marquette Mission Park, 500 North State Street, St. Ignace, MI 49781, telephone (906) 430-0446, email ojibmus@lighthouse.net.

SUPPLEMENTARY INFORMATION: Notice is here given in accordance with the Native American Graves Protection and Repatriation Act (NAGPRA), 25 U.S.C. 3003, of the completion of an inventory of human remains and associated funerary objects under the control of the Museum of Ojibwa Culture and Marquette Mission Park, City of St. Ignace, St. Ignace, MI. The human remains and associated funerary objects were removed from Marquette Mission Site (20MK82), Mackinac County, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Museum of Ojibwa Culture and Marquette Mission Park, City of St. Ignace professional staff in consultation with representatives of the Bois Forte Band (Nett Lake) of the Minnesota Chippewa Tribe; Chippewa Cree of the Rocky Boy's Reservation, Montana (previously listed as the Chippewa-Cree of the Rocky Boy's Reservation, Montana; Delaware Nation, Oklahoma; Delaware Tribe of Indians; Eastern Shawnee Tribe of Oklahoma; Forest County Potawatomi Community, Wisconsin; Grand Portage Band of the Minnesota Chippewa Tribe, Minnesota; Keweenaw Bay Indian Community, Michigan; Leech Lake Band of the Minnesota Chippewa Tribe, Minnesota; Menominee Indian Tribe of Wisconsin; Little Traverse Bay Bands of Odawa Indians, Michigan; Grand Traverse Band of Ottawa and Chippewa Indians, Michigan; Little River Band of Ottawa Indians, Michigan; Mille Lacs Band of the Minnesota Chippewa Tribe, Minnesota; Nottawaseppi Huron Band of the Potawatomi, Michigan (previously listed as the Huron Potawatomi, Inc.); Peoria Tribe of Indians of Oklahoma; Pokagon Band of Potawatomi Indians, Michigan and Indiana; Red Cliff Band of Lake Superior Chippewa Indians of Wisconsin; Red Lake Band of Chippewa Indians, Minnesota; Saginaw Chippewa Indian Tribe of Michigan; Sault Ste. Marie Tribe of Chippewa Indians, Michigan; Seneca Nation of Indians (previously listed as the Seneca Nation of New York); Seneca-Cayuga Nation (previously listed as the Seneca-Cayuga Tribe of Oklahoma); Shawnee Tribe, Oklahoma; St. Croix Chippewa Indians of Wisconsin; and Wyandotte Nation.

On September 8, 2015, an invitation to consult was extended to the Absentee-Shawnee Tribe of Indians of Oklahoma; Bad River Band of Lake Superior Chippewa Indians of the Bad River Reservation, Wisconsin; Bay Mills Indian Community, Michigan; Bois Forte Band (Nett Lake) of the Minnesota Chippewa Tribe, Minnesota; Chippewa-Cree Indians of the Rocky Boy's Reservation, Montana; Citizen Potawatomi Nation, Oklahoma; Delaware Nation, Oklahoma; Delaware Tribe of Indians; Eastern Shawnee Tribe of Oklahoma; Fond du Lac Band of the Minnesota Chippewa Tribe, Minnesota; Forest County Potawatomi Community, Wisconsin; Grand Portage Band of the Minnesota Chippewa Tribe, Minnesota; Grand Traverse Band of Ottawa and Chippewa Indians, Michigan; Hannahville Indian Community, Michigan; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Leech Lake Band of the Minnesota Chippewa Tribe, Minnesota; Little River Band of Ottawa Indians, Michigan; Little Traverse Bay Bands of Odawa Indians, Michigan; Match-e-be-nash-she-wish Band of Pottawatomi Indians of Michigan; Menominee Indian Tribe of Wisconsin; Miami Tribe of Oklahoma; Mille Lacs Band of the Minnesota Chippewa Tribe, Minnesota; Nottawaseppi Huron Band of the Potawatomi, Michigan (previously listed as the Huron Potawatomi, Inc.); Ottawa Tribe of Oklahoma; Peoria Tribe of Indians of Oklahoma; Pokagon Band of Potawatomi Indians, Michigan and Indiana; Prairie Band Potawatomi Nation (previously listed as the Prairie Band of Potawatomi Nation, Kansas); Red Cliff Band of Lake Superior Chippewa Indians of Wisconsin; Red Lake Band of Chippewa Indians, Minnesota; Saginaw Chippewa Indian Tribe of Michigan; Sault Ste. Marie Tribe of Chippewa Indians, Michigan; Seneca Nation of Indians (previously listed as the Seneca Nation of New York); Seneca-Cayuga Nation (previously listed as the Seneca-Cayuga Tribe of Oklahoma); Shawnee Tribe, Oklahoma; Sokaogon Chippewa Community, Wisconsin; St. Croix Chippewa Indians of Wisconsin; Turtle Mountain Band of Chippewa Indians of North Dakota; White Earth Band of Minnesota Chippewa Tribe, Minnesota; and Wyandotte Nation (hereinafter referred to as “The Tribes”). The invitation was followed by telephone calls and emails.

On November 13, 2015, an offer of joint disposition was extended to The Tribes.

History and Description of the Remains

On August 21, 1986, during an excavation of the site by an archeologist from Michigan State University (MSU), human remains representing, at minimum, three individuals were removed from the Marquette Mission Site (20MK82) in Mackinac County, MI. In September 1986, the human remains and cultural items found in the burial fill were transported to MSU where they continue to be housed. An infant and two adults of indeterminate sex were identified. No known individuals were identified. The three associated funerary objects are 1 aqua glass pendant and 2 seed beads.

The archeological site is within the Marquette Mission Park. The Museum of Ojibwa Culture manages the Park. Both the Park and the Museum are under the auspices of the City of St. Ignace. Based on the mode of burial and typological cross dating of seed beads found in the burial fill, the time period of burial is A.D. 1673-1701 when French, Huron, and Odawa (Ottawa) people were present in the area.

Determinations Made by the Museum of Ojibwa Culture and Marquette Mission Park, City of St. Ignace

Officials of the Museum of Ojibwa Culture and Marquette Mission Park, City of St. Ignace have determined that:

• Pursuant to 25 U.S.C. 3001(9), the human remains described in this notice are Native American based on the history of the site, the time period, and the nature of the burial.

• Pursuant to 25 U.S.C. 3001(9), the human remains described in this notice represent the physical remains of three individuals of Native American ancestry.

• Pursuant to 25 U.S.C. 3001(3)(A), the three objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, or Treaties, Acts of Congress, or Executive Orders the land from which the Native American human remains and associated funerary objects were removed is the aboriginal land of The Tribes.

• Pursuant to 43 CFR 10.11(c)(1), the disposition of the human remains and associated funerary objects may be to The Tribes. To date, the Saginaw Chippewa Indian Tribe of Michigan and Sault Ste. Marie Tribe of Chippewa Indians, Michigan, have requested disposition jointly.

Additional Requestors and Disposition

Representatives of any Indian tribe or Native Hawaiian organization not identified in this notice that wish to request transfer of control of these human remains and associated funerary objects should submit a written request with information in support of the request to Shirley Sorrels, Director, Museum of Ojibwa Culture and Marquette Mission Park, 500 North State Street, St. Ignace, MI 49781, telephone (906) 430-0446, email ojibmus@lighthouse.net, by May 5, 2016. After that date, if no additional requestors have come forward, transfer of control of the human remains and associated funerary objects to The Tribes may proceed. To date, the Saginaw Chippewa Indian Tribe of Michigan and Sault Ste. Marie Tribe of Chippewa Indians, Michigan, have requested disposition jointly.

The Museum of Ojibwa Culture and Marquette Mission Park, City of St. Ignace is responsible for notifying The Tribes that this notice has been published.

Dated: March 14, 2016.
Melanie O'Brien,
Manager, National NAGPRA Program.

[FR Doc. 2016-07775 Filed 4-4-16; 8:45 am]

BILLING CODE 4312-50-P